FEDERAL COMMUNICATIONS COMMISSION

47 CFR Part 73

[DA 06-2029; MB Docket No. 05-146; RM-10798]

Radio Broadcasting Services; Caliente and Moapa, NV

AGENCY: Federal Communications Commission.

ACTION: Final rule, dismissal of petition for reconsideration.

SUMMARY: This document dismisses a petition for reconsideration filed by Aurora Media, LLC., because it was untimely filed. Aurora requested reconsideration of a Report and Order that denied its petition for rule making to reallot Channel 233C from Caliente, Nevada to Moapa, Nevada, and to modify the construction permit authorization to reflect the change of community. The proposed change of community was denied because it would not result in a preferential arrangement of allotments.

FOR FURTHER INFORMATION CONTACT: Helen McLean, Media Bureau, (202) 418-2738.

SUPPLEMENTARY INFORMATION: This is a synopsis of the Commission's Memorandum Opinion and Order, MB Docket No. 05-146, adopted October 11, 2006, and released October 13, 2006. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com.

This document is not subject to the Congressional Review Act. The Commission, is, therefore, not required to submit a copy of this Memorandum Opinion and Order to the Government Accountability Office pursuant to the Congressional Review Act, see 5 U.S.C. 801(a)(1)(A) because the aforementioned petition for reconsideration was dismissed.

Federal Communications Commission.
John A. Karousos,
Assistant Chief, Audio Division, Media Bureau.

[FR Doc. E6-18316 Filed 10-31-06; 8:45 am]

BILLING CODE 6712-01-P